DEPARTMENT OF ENERGY

Federal Energy Regulatory Commission

[ Project No. 11910-004]

Symbiotics, LLC; AG Hydro, LLC; Notice of Application for Transfer of License, and Soliciting Comments and Motions To Intervene

March 24, 2010.

On March 8, 2010, Symbiotics, LLC (transferor) and AG Hydro, LLC (transferee) filed an application for transfer of license of the Applegate Dam Project, located on the Applegate River in Jackson County, Oregon.

Applicants seek Commission approval to transfer the license for the Applegate Dam from the transferor to the transferee.

Applicant Contact: For both the transferor and transferee is Mr. Brent Smith, 4110 East 300 North, P.O. Box 535, Rigby, ID 83442, phone (208) 745-0834.

FERC Contact: Robert Bell, (202) 502-6062.

Deadline for filing comments and motions to intervene: 30 days from the issuance of this notice. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of the Commission's Web site at http://www.ferc.gov/docs-filing/elibrary.asp. Enter the docket number (P-11910-004) in the docket number field to access the document. For assistance, call toll-free 1-866-208-3372.

Kimberly D. Bose,
Secretary.

[FR Doc. 2010-7143 Filed 3-30-10; 8:45 am]

BILLING CODE 6717-01-P